ENVIRONMENTAL PROTECTION AGENCY

[FRL OP-OFA-080]

Environmental Impact Statements; Notice of Availability

Responsible Agency: Office of Federal Activities, General Information 202-564-5632 or https://www.epa.gov/nepa.

Weekly receipt of Environmental Impact Statements (EIS)

Filed July 24, 2023 10 a.m. EST Through July 31, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230092, Final, FERC, LA, CP2 LNG and CP Express Project, Review Period Ends: 09/05/2023, Contact: Office of External Affairs 866-208-3372.

EIS No. 20230093, Final, USN, DC, Proposed Land Acquisition at Washington Navy Yard, Washington, DC, Review Period Ends: 09/05/2023, Contact: Nik Tompkins-Flagg 202-685-8437.

EIS No. 20230094, Draft Supplement, BLM, CO, Colorado River Valley Field Office and Grand Junction Field Office Supplemental EIS, Comment Period Ends: 11/01/2023, Contact: Bruce Krickbaum 970-240-5399.

EIS No. 20230095, Final, DOE, CA, ADOPTION—Final Environmental Impact Statement for the Civil Nuclear Credit Program Proposed Award of Credits to Pacific Gas and Electric Company for Diablo Canyon Power Plant, Review Period Ends: 09/05/2023, Contact: Jason Anderson 208-360-3437.

The Department of Energy (DOE) has adopted the Atomic Energy Commission's (now NRC's) Final EIS No. 73 0948F, filed 06/04/1973 with the Council of Environmental Quality. The DOE was not a cooperating agency on this project. Therefore, republication of the document is necessary under Section 1506.3(b)(2) of the CEQ regulations.

EIS No. 20230096, Draft, NHTSA, REG, Corporate Average Fuel Economy Standards for Passenger Cars and Light Trucks, Model Years 2027-2032, and Fuel Efficiency Standards for Heavy-Duty Pickup Trucks and Vans, Model Years 2030-2035, Comment Period Ends: 10/04/2023, Contact: Hannah Fish 202-366-1099.

Dated: July 31, 2023.
Cindy S. Barger,
Director, NEPA Compliance Division, Office of Federal Activities.

[FR Doc. 2023-16653 Filed 8-3-23; 8:45 am]

BILLING CODE 6560-50-P